DEPARTMENT OF ENERGY

Federal Energy Regulatory Commission

[Docket No. AD22-10-000]

Reliability Technical Conference; Notice Inviting Post-Technical Conference Comments

On Thursday, November 10, 2022, the Federal Energy Regulatory Commission (Commission) convened its annual Commissioner-led Reliability Technical Conference to discuss policy issues related to the reliability of the Bulk-Power System.

All interested persons are invited to file post-technical conference comments to address issues raised during the technical conference identified in the Supplemental Notice of Technical Conference issued on November 3, 2022. For reference, the questions included in the Supplemental Notice are included below. Commenters need not answer all of the questions, but are encouraged to organize responses using the numbering and order in the below questions. Commenters are also invited to reference material previously filed in this docket but are encouraged to avoid repetition or replication of their previous comments. Comments must be submitted on or before 60 days from the date of this Notice.

Comments, identified by docket number, may be filed electronically or paper-filed. Electronic filing through https://www.ferc.gov is preferred. Documents must be filed in acceptable native applications and print-to -PDF, but not in scanned or picture format. Instructions are available on the Commission's website: http://www.ferc.gov/docs-filing/efiling.asp.

Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

For more information about this Notice, please contact:

Lodie White (Technical Information), Office of Energy Reliability, (202) 502-8453, Lodie.White@ferc.gov

Leigh Anne Faugust (Legal Information), Office of General Counsel, (202) 502-6396, Leigh.Faugust@ferc.gov

Dated: November 22, 2022.
Kimberly D. Bose,
Secretary.

[FR Doc. 2022-25988 Filed 11-28-22; 8:45 am]

BILLING CODE 6717-01-P